DEPARTMENT OF LABOR

Employment and Training Administration

[TA-W-62,271]

Ravenswood Specialty Services, Inc., Ravenswood, WV; Notice of Negative Determination Regarding Application for Reconsideration

By application dated November 29, 2007, the United Steel, Paper and Forestry, Rubber, Manufacturing, Energy, Allied Industrial and Service Workers International Union (the Union) requested administrative reconsideration of the Department's negative determination regarding eligibility for workers and former workers of Ravenswood Specialty Services, Inc., Ravenswood, West Virginia (subject firm) to apply for Trade Adjustment Assistance (TAA) and Alternative Trade Adjustment Assistance (ATAA). The negative determination was issued on October 18, 2007. The Department's Notice of determination was published in the Federal Register on October 31, 2007 (72 FR 61686). Workers produce nylon polymer and Minlon, and are not separately identifiable by related article.

The petition was denied because the subject firm did not shift production to a foreign country, the subject firm did not import nylon polymer or Minlon, and the subject firm's major declining customer did not import nylon polymer or Minlon during the relevant period.

In the request for reconsideration, the Union stated that “the workers' separations are due to foreign imports and a shift of production to a foreign country. We are in the process of gathering further information to help support this position and will forward it to your office as soon as possible.”

Pursuant to 29 CFR 90.18(c), administrative reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The Union did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC this 16th day of January 2008.
Elliott S. Kushner,
Certifying Officer, Division of Trade Adjustment Assistance.

[FR Doc. E8-1284 Filed 1-24-08; 8:45 am]

BILLING CODE 4510-FN-P